DEPARTMENT OF DEFENSE

Department of the Army; Corps of Engineers

Availability of the Draft Joint Environmental Impact Statement/Environmental Impact Report for the San Clemente Shoreline Feasibility Study in San Clemente, CA

AGENCY: Department of the Army, U.S. Army Corps of Engineers, DoD.

ACTION: Notice of Availability.

SUMMARY: The U.S. Army Corps of Engineers (USACE), Los Angeles District, and the City of San Clemente are issuing this notice to announce the availability for public review and comment of a Draft Joint Environmental Impact Statement/Environmental Impact Report (Draft EIS/EIR) for the San Clemente Shoreline Feasibility Study. The purpose of the San Clemente Shoreline Feasibility Study (Project) is to provide shore protection through nourishment of the beach at the Pier. Developing and maintaining the beach is needed to prevent the severe beach erosion that results from winter storms and to prevent damage to adjacent beachfront structures, including the heavily used rail line that runs along the beach through the City. The City of San Clemente is located along the coast of southern California about 60 miles (100 kilometers) south of Los Angeles at the southern end of Orange County near the border of San Diego County. The study area is encompassed within the City of San Clemente and extends approximately 3,412 ft (1,040 m) from Linda Lane to T Street. The Proposed Project consists of dredging material from offshore Oceanside, then hauling and placing it at San Clemente Beach. The proposed Project is a 50 foot (15 m) resultant beach width. Beach fill would be 3,412 ft (1,040 m) long with a +17 ft (+5.2 m) crest elevation. The dredge volume is estimated to be approximately 251,130 cubic yards (192,000 m3). Construction is anticipated to begin in 2012.

DATES: The Draft EIS/EIR will be available for public review for 45 calendar days from August 9, 2010, through September 23, 2010. Submit comments on or before September 23, 2010.

FOR FURTHER INFORMATION CONTACT: Mr. Thomas W. Keeney, Project Ecologist, Planning Division, Environmental Resources Branch, U.S. Army Corps of Engineers, Los Angeles District, P.O. Box 532711, Los Angeles, CA 90053-2325, at (213) 452-3875 or at Thomas.W.Keeney@usace.army.mil. Written comments are to be provided to Mr. Keeney.

SUPPLEMENTARY INFORMATION: Issues that were found not to be significant for the proposed Project included land use and policy. Issues that were found to be less than significant without the need for mitigation measures were geology and topography, noise, transportation, aesthetics, and public health and safety. The construction and long-term maintenance of the proposed Project would not have a significant effect on these elements, and the analyses of these issues are detailed in the environmental consequences section. The Project site is not listed as a toxic site.

Although significant impacts to biological resources (i.e., surfgrass) and recreation (i.e., surfing) are not likely to occur due to the footprint and temporary nature of the Project, mitigation measures will be implemented if monitoring demonstrates impacts are significant. If a substantial amount of surfgrass were lost, impacts may not be mitigable to not significant. If adverse impacts to surfgrass beyond those anticipated for the species to recover are observed from the monitoring, subsequent nourishment activities will be modified to avoid or minimize these impacts as part of adaptive management. If adverse impacts still are observed after all reasonable attempts to avoid or minimize impacts have been exhausted, additional renourishment would not occur until impacted surfgrass has recovered or a mitigation measure is accepted. A consistently successful method to transplant surfgrass has not yet been devised, although recent experiments may provide new options. Creation of shallow habitat mitigation reefs may ultimately replace the lost surfgrass if surfgrass eventually colonizes the reefs; however, such colonization is uncertain. Likewise, if surfing is demonstrated to be significantly impacted, mitigation measures will be implemented; however, creation of an artificial surfing reef has not yet been successful off the coast of California.

The U.S. Army Corps of Engineers, Los Angeles District, and City of San Clemente are soliciting comments on the adequacy and completeness of this Draft Joint EIS/EIR. You may comment on the draft environmental document by providing written comments to Mr. Thomas W. Keeney prior to the close of the public comment on September 23, 2010, at 5 p.m. Please limit comments to environmental issues, such as traffic, biology, noise, etc. A public meeting will be held at the Community Development Office, 910 Calle Negocio, San Clemente, CA 92673 on August 19, 2010, at 7 p.m.

Brenda S. Bowen,
Army Federal Register Liaison Officer.

[FR Doc. 2010-19548 Filed 8-6-10; 8:45 am]

BILLING CODE 3720-58-P